DEPARTMENT OF LABOR

Employment and Training Administration

[TA-W-57,781]

Nu-Gro Technologies, Inc., Gloversville, NY; Dismissal of Application for Reconsideration

Pursuant to 29 CFR 90.18(C) an application for administrative reconsideration was filed with the Director of the Division of Trade Adjustment Assistance for workers at Nu-Gro Technologies, Inc., Gloversville, New York. The application contained no new substantial information which would bear importantly on the Department's determination. Therefore, dismissal of the application was issued.

TA-W-57,781; Nu-Gro Technologies, Inc., Gloversville, New York (October 11, 2005).

Signed at Washington, DC this 13th day of October 2005.
Douglas F. Small,
Acting Director, Division of Trade Adjustment Assistance.

[FR Doc. E5-5886 Filed 10-24-05; 8:45 am]

BILLING CODE 4510-30-P